FEDERAL MARITIME COMMISSION

Request for Additional Information

The Commission gives notice that it has requested that the parties to the below listed agreement provide additional information pursuant to section 6(d) of the Shipping Act of 1984, 46 U.S.C. app. 1705(d). The Commission has determined that further information is necessary to evaluate the impact of the proposed Reefer Trade Management Program. This action prevents the agreement from becoming effective as originally scheduled.

The Commission also gives notice that it has determined to hold an oral hearing at which interested parties may present information and views on the likely effects of the proposed Reefer Trade Management Program on competition, transportation services, and transportation costs for shippers of refrigerated cargo. The Commission will establish the date, specific issues to be heard, and procedures for this hearing by further notice.

Agreement No.: 011325-027.

Title: Westbound Transpacific Stabilization Agreement.

Parties: American President Lines, Ltd., APL Co. PTE, A.P. Miller-Maersk Sealand, COSCO Container Lines, Evergreen Marine Corporation, Hanjin Shipping Company, Ltd., Hapag-Lloyd Container Linie GmbH, Hyundai Merchant Marine Co., Ltd., Kawasaki Kisen Kaisha, Ltd., Mitsui O.S.K. Lines, Ltd., Nippon Yusen Kaisha, Orient Overseas Container Line Limited, P&O Nedlloyd B.V., P&O Nedlloyd Limited, Yangming Marine Transport Corp.

By Order of the Federal Maritime Commission.
Dated: March 15, 2002.
Bryant L. VanBrakle,
Secretary.

[FR Doc. 02-6744 Filed 3-19-02; 8:45 am]

BILLING CODE 6730-01-P